FEDERAL COMMUNICATIONS COMMISSION

47 CFR Part 64

[WC Docket No 13-39; DA 14-526]

Rural Call Completion Order

AGENCY: Federal Communications Commission.

ACTION: Comments requested.

SUMMARY: This document seeks comment on whether additional guidance, clarification, or modification regarding the “answered” and “ring no answer” categories of call attempts described in Appendix C of the Rural Call Completion Order is necessary. Appendix C provides a spreadsheet that covered providers must use to file the required call completion data with the Commission each quarter. This document seeks comment on whether Appendix C should be clarified to eliminate any basis for interpreting it inconsistently with the definition of “answered call” in the Order, and revise the description of “ring no answer” call attempts in Appendix C to provide clearer guidance to covered providers.

DATES: Comments must be filed by May 13, 2014.

ADDRESSES: You may submit comments, identified by WC Docket No. 13-39, by any of the following methods:

• Federal Communications Commission's Web site: http://www.fcc.gov/cgb/ecfs/. Follow the instructions for submitting comments.

• Email ecfs@fcc.gov, and include the following words in the body of the message: “get form.” A sample form and directions will be sent in response. Include the docket numbers in the subject line of the message.

• Mail: Secretary, Federal Communications Commission, 445 12th Street SW., Washington, DC 20554.

FOR FURTHER INFORMATION CONTACT: Gregory Kwan, Wireline Competition Bureau, Competition Division, at (202) 418-1191 or by email at Gregory.Kwan@fcc.gov.

SUPPLEMENTARY INFORMATION: This is a summary of the Bureau's document in Rural Call Completion, FCC 13-135, published at 78 FR 76218, December 17, 2013. The complete text of this document is available on the Commission's Internet site at www.fcc.gov and for public inspection Monday through Thursday from 8 a.m. to 4:30 p.m. and Friday from 8 a.m. to 11:30 a.m. in the Commission's Consumer and Governmental Affairs Bureau Reference Information Center, Room CY-A257, 445 12th Street SW., Washington, DC 20554. The full text of this document may also be purchased from the Commission's duplicating contractor, Best Copy and Printing, Inc., Portals II, 445 12th Street SW., Washington, DC 20554, telephone 202-488-5300, facsimile 202-488-5563, email at fcc@bcpiweb.com, or via its Web site at http://www.bcpiweb.com.

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Synopsis

The Wireline Competition Bureau seeks comment on whether guidance or additional clarification would assist providers with their filing obligations related to the Rural Call Completion Order, FCC 13-135, published at 78 FR 76218, December 17, 2013. Specifically, we seek comment on whether to modify or otherwise provide assistance regarding the criteria described in Appendix C of the Rural Call Completion Order for categorizing certain types of call attempts. We release this document in response to questions raised in the record regarding the “answered” and “ring no answer” categories of call attempts described in Appendix C, pursuant to delegated authority. These questions raise the possibility that the relevant criteria in Appendix C were inadvertently drafted in a way that fails to reflect the Commission's clear intent, as expressed in the Order.

“Answered” call attempts. The reporting requirements in the Rural Call Completion Order require covered providers to categorize call attempts either as “answered” or as one of three types of calls that are not answered: “busy,” “ring no answer,” or “unassigned number.” The Rural Call Completion Order defines “answered call” as

a call that was answered by or on behalf of the called party (including calls completed to devices, services or parties that answer the call such as an interactive voice response, answering service, voicemail or call-forwarding system), causing the network to register that the terminating party is prepared to receive information from the calling user.

The Commission emphasized that “the call answer rate is the data point least susceptible to variations in data reporting or to differences in the quality or accuracy of signaling: the called party either answered the call or did not answer the call.”

Appendix C of the Rural Call Completion Order provides a spreadsheet that covered providers must use to file the required call completion data with the Commission each quarter. The legend accompanying the spreadsheet identifies specific “ISUP Cause values and corresponding SIP Response messages” for each category of call attempt. An “answered” call is described in Appendix C as a call attempt “signaled back with ISUP 16 & 31 and SIP BYE & CANCEL.”

In recent meetings with Commission staff, Level 3 and Verizon explained that release cause code 16—one of the codes identified in Appendix C as denoting an answered call—is also used to indicate that the calling party has hung up before the called party answered. Level 3 contends that including calling-party hangups as answered calls would result in a “much higher” reported call-completion rate than a provider would report if it excluded them.

In this document, we seek comment on this contention and on whether it would assist providers if the Bureau clarified that, as specified in the Order, covered providers should record and report calls as “answered” only to the extent that such calls satisfy the definition of “answered call” that appears in paragraph 72 of the Rural Call Completion Order. Appendix C could be clarified to eliminate any basis for interpreting it inconsistently with the definition of “answered call” in the Order. If so, should the description of “answered call” in Appendix C be revised to include a different description (e.g., a different set of release codes) of how networks identify answered calls? Or should the legend in Appendix C simply be deleted, allowing each covered provider to identify answered calls in a manner consistent with the definition in the Rural Call Completion Order and with industry practice?

“Ring no answer” call attempts. The Rural Call Completion Order requires covered providers to record and report “ring no answer” call attempts, which are required to calculate the network effectiveness ratio (NER). A “ring no answer” call is described in Appendix C as a call attempt that is “signaled back with ISUP 18 & 19 and IP 408 & 480.”

Level 3 asserted that some of the criteria in Appendix C for “ring no answer” call attempts will only capture a very small percentage of the intended call attempts. Verizon expressed concern about using call signaling data to identify “ring no answer” calls at all. We therefore seek comment on whether the description of “ring no answer” call attempts in Appendix C should be revised to provide clearer guidance to covered providers, and if so, how. Alternatively, should the legend in Appendix C be deleted, allowing each covered provider to interpret the required call attempt categories in a manner consistent with industry practice and with the Commission's stated intent in the Rural Call Completion Order?

Federal Communications Commission.
Lisa S. Gelb,
Deputy Bureau Chief, Wireline Competition Bureau.

[FR Doc. 2014-10261 Filed 5-5-14; 8:45 am]

BILLING CODE 6712-01-P